DEPARTMENT OF ENERGY

Federal Energy Regulatory Commission

[Docket No. RP00-474-006]

Maritimes & Northeast Pipeline, L.L.C; Notice of Compliance Filing

October 17, 2003.

Take notice that on October 14, 2003, Maritimes & Northeast Pipeline, L.L.C. (Maritimes) tendered for filing a response to a Commission Staff data request dated October 1, 2003.

Maritimes states that copies of its filing will be served to all parties of record in the RP00-474-000 proceedings.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “eLibrary” link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Protest Date: October 27, 2003.

Magalie R. Salas,
Secretary.

[FR Doc. E3-00113 Filed 10-24-03; 8:45 am]

BILLING CODE 6717-01-P